DEPARTMENT OF VETERANS AFFAIRS

[OMB Control No. 2900-0390]

Agency Information Collection Activity: Application of Surviving Spouse or Child for REPS Benefit (Restored Entitlement Program for Survivors)

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before April 8, 2024.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0390” in any correspondence. During the comment period, comments may be viewed online through FDMS.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0390” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C 5101.

Title: Application of Surviving Spouse or Child for REPS Benefit (Restored Entitlement Program for Survivors).

OMB Control Number: 2900-0390.

Type of Review: Revision of a currently approved collection.

Abstract: VA Form 21P-8924 is primarily used to gather the necessary information to determine a claimant's eligibility for REPS benefits. Respondents are surviving spouses or schoolchildren who are establishing eligibility to REPS benefits. The beneficiary will complete this information collection and return to the VA by mail or fax. Once the form is received by the VA, the information is reviewed to determine whether the beneficiary will establish entitlement or continued entitlement to REPS benefits. The information on the form is necessary to determine if the applicant meets REPS eligibility criteria. Without this information, determination of entitlement would not be possible. This is a revision of a currently approved collection as the respondent burden has decreased.

Affected Public: Individuals and households.

Estimated Annual Burden: 14 hours.

Estimated Average Burden per Respondent: 20 minutes.

Frequency of Response: One time.

Estimated Number of Respondents: 44.

By direction of the Secretary.
Maribel Aponte,
VA PRA Clearance Officer, Office of Enterprise and Integration/Data Governance Analytics, Department of Veterans Affairs.

[FR Doc. 2024-02426 Filed 2-6-24; 8:45 am]

BILLING CODE 8320-01-P